DEPARTMENT OF ENERGY

Federal Energy Regulatory Commission

Combined Notice of Filings

Take notice that the Commission has received the following Natural Gas Pipeline Rate and Refund Report filings:

Filings Instituting Proceedings

Docket Numbers: PR26-16-000.

Applicants: NorthWestern Energy Public Service Corporation.

Description: 284.123 Rate Filing: Revised Statement of Operating Conditions to be effective 11/1/2025.

Filed Date: 11/20/25.

Accession Number: 20251120-5254.

Comment Date: 5 p.m. ET 12/11/25.

Docket Numbers: RP26-221-000.

Applicants: Tennessee Gas Pipeline Company, L.L.C.

Description: Compliance filing: Cashout Report 2024-2025 to be effective N/A.

Filed Date: 11/20/25.

Accession Number: 20251120-5141.

Comment Date: 5 p.m. ET 12/2/25.

Docket Numbers: RP26-222-000.

Applicants: Adelphia Gateway, LLC.

Description: 4(d) Rate Filing: Adelphia Gateway NCA-NRA Filing to be effective 1/1/2026.

Filed Date: 11/20/25.

Accession Number: 20251120-5163.

Comment Date: 5 p.m. ET 12/2/25.

Docket Numbers: RP26-223-000.

Applicants: Crossroads Pipeline Company LLC.

Description: 4(d) Rate Filing: XRD—Citadel NR Agmt 318203, Eff. 12.1.25 to be effective 12/1/2025.

Filed Date: 11/20/25.

Accession Number: 20251120-5177.

Comment Date: 5 p.m. ET 12/2/25.

Docket Numbers: RP26-224-000.

Applicants: El Paso Natural Gas Company, L.L.C.

Description: 4(d) Rate Filing: Article 11.2(a) Inflation Adjustment Filing 2026 to be effective 1/1/2026.

Filed Date: 11/20/25.

Accession Number: 20251120-5216.

Comment Date: 5 p.m. ET 12/2/25.

Docket Numbers: RP26-225-000.

Applicants: Florida Gas Transmission Company, LLC.

Description: 4(d) Rate Filing: Amended NRAs—TECO and PGS to be effective 12/1/2025.

Filed Date: 11/21/25.

Accession Number: 20251121-5085.

Comment Date: 5 p.m. ET 12/3/25.

Docket Numbers: RP26-226-000.

Applicants: Transcontinental Gas Pipe Line Company, LLC.

Description: 4(d) Rate Filing: List of Non-Conforming Service Agreements (AGC et al) to be effective 12/22/2025.

Filed Date: 11/21/25.

Accession Number: 20251121-5158.

Comment Date: 5 p.m. ET 12/3/25.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP24-781-011.

Applicants: Algonquin Gas Transmission, LLC.

Description: Compliance filing: AGT New York Delivery Surcharge 2025 Filing to be effective 1/1/2026.

Filed Date: 11/20/25.

Accession Number: 20251120-5196.

Comment Date: 5 p.m. ET 12/2/25.

Docket Numbers: RP26-34-001.

Applicants: Egan Hub Storage, LLC.

Description: Compliance filing: Egan—FOSA Ratchet Compliance Filing to be effective 11/1/2025.

Filed Date: 11/21/25.

Accession Number: 20251121-5069.

Comment Date: 5 p.m. ET 12/3/25.

Docket Numbers: RP26-35-001.

Applicants: Bobcat Gas Storage.

Description: Compliance filing: Bobcat—FOSA Ratchets Compliance Filing to be effective 11/1/2025.

Filed Date: 11/21/25.

Accession Number: 20251121-5071.

Comment Date: 5 p.m. ET 12/3/25.

Docket Numbers: RP26-45-001.

Applicants: UGI Mt. Bethel Pipeline, LLC.

Description: Compliance filing: Amend Order No. 587-AA Compliance Filing (RP26-45-) to be effective 8/1/2025.

Filed Date: 11/20/25.

Accession Number: 20251120-5167.

Comment Date: 5 p.m. ET 12/2/25.

Docket Numbers: RP26-46-001.

Applicants: UGI Storage Company.

Description: Compliance filing: Amend Order No. 587-AA Compliance Filing (RP26-46-) to be effective 8/1/2025.

Filed Date: 11/20/25.

Accession Number: 20251120-5161.

Comment Date: 5 p.m. ET 12/2/25.

Docket Numbers: RP26-47-001.

Applicants: UGI LNG Inc.

Description: Compliance filing: Amend Order No. 587-AA Compliance Filing (RP26-47-) to be effective 8/1/2025.

Filed Date: 11/20/25.

Accession Number: 20251120-5173.

Comment Date: 5 p.m. ET 12/2/25.

Docket Numbers: RP26-48-001.

Applicants: UGI Sunbury, LLC.

Description: Compliance filing: Amend Order No. 587-AA Compliance Filing (RP26-48-) to be effective 8/1/2025.

Filed Date: 11/20/25.

Accession Number: 20251120-5149.

Comment Date: 5 p.m. ET 12/2/25.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: November 21, 2025.
Debbie-Anne A. Reese,
Secretary.

[FR Doc. 2025-21330 Filed 11-26-25; 8:45 am]

BILLING CODE 6717-01-P